ENVIRONMENTAL PROTECTION AGENCY

[EPA-R10-OAR-2011-0820; FRL-9631-2]

Adequacy Status of the Anchorage, Alaska, Carbon Monoxide Maintenance Plan for Transportation Conformity Purposes

AGENCY: Environmental Protection Agency (EPA).

ACTION: Notice of adequacy determination.

SUMMARY: In this action, EPA is notifying the public of its finding that the new motor vehicle emissions budget (MVEB) in the Anchorage, Alaska, Carbon Monoxide (CO) Maintenance Plan, submitted by the State of Alaska on September 20, 2011, is adequate for conformity purposes. EPA made this finding pursuant to the adequacy process established at 40 CFR 93.118(f)(1). As a result of this finding, the Municipality of Anchorage, Alaska, Department of Transportation & Public Facilities, and the U.S. Department of Transportation will be required to use this motor vehicle emissions budget for future transportation conformity determinations.

DATES: This finding is effective February 29, 2012.

FOR FURTHER INFORMATION CONTACT: The finding will be available at EPA's conformity Web site: http://www.epa.gov/otaq/stateresources/transconf/adequacy.htm. You may also contact Wayne Elson, U.S. EPA, Region 10 (OAWT-107), 1200 Sixth Ave, Suite 900, Seattle WA 98101; (206) 553-1463 or elson.wayne@epa.gov.

SUPPLEMENTARY INFORMATION: This action provides notice of EPA's adequacy finding regarding the motor vehicle emissions budget (MVEB) in the carbon monoxide Maintenance Plan for Anchorage, Alaska. EPA's finding was made pursuant to the adequacy review process for implementation plan submissions delineated at 40 CFR 93.118(f)(1) under which EPA reviews the adequacy of an implementation plan submission prior to EPA's final action on the implementation plan.

On September 20, 2011, Alaska Department of Environmental Conservation submitted a CO maintenance plan revision to EPA. Pursuant to 40 CFR 93.118(f)(1), EPA notified the public of its receipt of this plan that would be reviewed for an adequacy determination on EPA's Web site and requested public comment by no later than November 7, 2011. EPA received no comments on the plan during that comment period. As part of our review, we also reviewed comments submitted to the Alaska Department of Environmental Conservation on the Maintenance Plan during the public hearing process. There were no adverse comments submitted during the State hearing process regarding the new MVEB. EPA Region 10 sent a letter to the Alaska Department of Environmental Conservation on December 16, 2011, subsequent to the close of the comment period stating EPA found the new MVEB in the submitted Anchorage CO Maintenance Plan to be adequate for use in transportation conformity. The new MVEB that EPA determined to be adequate for purposes of transportation conformity is 156.5 tons of CO per winter day.

Transportation conformity is required by section 176(c) of the Clean Air Act. EPA's conformity rule requires transportation plans, programs, and projects to conform to SIPs and establishes the criteria and procedures for determining whether or not they do. Conformity to a SIP means that transportation activities will not produce new air quality violations, worsen existing violations, or delay timely attainment of the national ambient air quality standards.

The minimum criteria by which we determine whether a SIP's motor vehicle emission budget is adequate for conformity purposes are specified at 40 CFR 93.118(e)(4). EPA's analysis of how the state's submission satisfies these criteria is found in the Technical Support Document. EPA's MVEB adequacy review is separate from EPA's SIP completeness review and it also should not be used to prejudge EPA's ultimate approval of the SIP. Even if we find the budget adequate, the SIP could later be disapproved.

Authority: 42 U.S.C. 7401-7671q.

Dated: February 2, 2012.
Dennis J. McLerran,
Regional Administrator, Region 10.

[FR Doc. 2012-3389 Filed 2-13-12; 8:45 am]

BILLING CODE 6560-50-P